DEPARTMENT OF TRANSPORTATION

Office of the Secretary

[Docket No. DOT-OST-2025-0468]

Advancing a Surface Transportation Proposal That Focuses on America's Most Fundamental Infrastructure Needs

ACTION: Notice; Request for information.

SUMMARY: The current authorization for Federal surface transportation programs is set to expire on September 30, 2026. In preparation for the next surface transportation reauthorization bill, and to ensure that the public's perspectives and ideas are considered, the Department of Transportation (DOT) invites the public to provide ideas, comments, and information for consideration in the development of the next surface transportation authorizing legislation.

DATES: Comments must be received by no later than August 20, 2025. DOT will consider comments filed after this date to the extent practicable.

ADDRESSES: Written comments may be submitted electronically or via U.S. mail. Respondents are encouraged to submit comments electronically to ensure timely receipt. Please include your name, title, organization, postal address, telephone number, and email address.

Electronic Submission: Go to http://www.regulations.gov. Search by using the docket number (provided above). Follow the instructions for submitting comments on the electronic docket site.

Email: STR2026@dot.gov. Please include the full body of your comments in the text of the electronic message and as an attachment.

Mail: Dockets Operation; U.S. Department of Transportation, 1200 New Jersey Avenue SE, West Building, Ground Floor, W12-140, Washington, DC 20590-0001.

Instructions: All submissions should include the agency name and docket number.

FOR FURTHER INFORMATION CONTACT: Daniel Cohen, Assistant General Counsel for Regulation and Legislation, at STR2026@dot.gov or (202) 366-4702.

SUPPLEMENTARY INFORMATION: DOT has a mission to deliver the world's leading transportation system, serving the American people and economy through the safe and efficient movement of people and goods. That mission covers all modes of transportation be it by air, sea, or on land. Several operating administrations in DOT administer laws and programs related to surface transportation including: the Federal Highway Administration, the Federal Motor Carrier Safety Administration, the Federal Railroad Administration, the Federal Transit Administration, the National Highway Traffic Safety Administration, and the Pipeline and Hazardous Materials Safety Administration. The activities of those DOT surface transportation operating administrations are governed by laws that must be reauthorized periodically.

With the current surface transportation authorization set to expire on September 30, 2026, DOT is seeking input from the public. In particular, DOT seeks comments from entities significantly affected by administrative actions of DOT including: State, local, and tribal governments; small businesses; consumers; non-governmental organizations; transportation system operators and service providers; and manufacturers and their trade associations. Such stakeholders can provide valuable insight and suggestions to support the development of the next surface transportation reauthorization bill to address the nation's most essential infrastructure needs. As we approach reauthorization, DOT seeks to engage a broad range of stakeholders to assess what has worked, what needs improvement, and what new priorities should be included.

Through this Request for Information (RFI), DOT seeks information from stakeholders across transportation sectors on the upcoming surface transportation reauthorization. This RFI is intended to gather feedback, ideas, and recommendations to help inform legislative priorities and ensure future infrastructure programs focus on delivering safe and efficient surface transportation, without attaching unnecessary requirements. The reauthorization effort will focus on modernizing America's infrastructure by improving safety, streamlining Federal processes, promoting economic growth, and strengthening partnerships.

Written Comments: DOT invites stakeholders to provide input on any aspect of Federal transportation infrastructure policy to inform the surface transportation reauthorization process. Please be as specific as possible, including identifying any statutory changes necessary to effectuate your idea. Comments may respond to any of or all the following major policy themes of importance to the Department:

• Enhancing transportation safety—including bridges, safety for transportation workers and pedestrians, truck parking, and autonomous vehicles.

• Accelerating project delivery for transportation projects—including reforming the National Environmental Policy Act (NEPA) and permitting, enhancing One Federal Decision, and increasing the use of technology.

• Increasing opportunities through investment in transportation infrastructure that promotes economic growth, including through expanded capacity and mobility, congestion relief, and more private sector investment.

• Strengthening partnerships with States and other key stakeholders to improve transportation outcomes, including prioritizing the Federal interest, greater efficiencies, and research.

This RFI is issued solely for information and program planning purposes. Responses to this RFI do not bind DOT to any further actions related to the response. All submissions will be made publicly available on https://www/regulations.gov.

Issued in Washington, DC, on July 16, 2025.
Gregory D. Cote,
Acting General Counsel.

[FR Doc. 2025-13663 Filed 7-18-25; 8:45 am]

BILLING CODE 4910-9X-P